DEPARTMENT OF TRANSPORTATION

Federal Aviation Administration

14 CFR Part 39

[Docket No. FAA-2008-0043; Directorate Identifier 2007-SW-31-AD; Amendment 39-15340; AD 2008-02-10]

RIN 2120-AA64

Airworthiness Directives; Eurocopter France Model AS 355 F2 and AS 355 N Helicopters

AGENCY: Federal Aviation Administration (FAA), Department of Transportation (DOT).

ACTION: Final rule; request for comments.

SUMMARY: We are adopting a new airworthiness directive (AD) for Eurocopter France Model AS 355 F2 and AS 355 N helicopters. This AD results from mandatory continuing airworthiness information (MCAI) originated by an aviation authority to identify and correct an unsafe condition on an aviation product. The European Aviation Safety Agency, the Technical Agent for France, with which we have a bilateral agreement, states in the MCAI:

This emergency Airworthiness Directive (AD) is issued following a report of yaw control restricted travel in operation following the replacement of the load compensator. If not corrected, this condition could lead to the loss of control of the helicopter.

This AD requires actions that are intended to address this unsafe condition.

DATES: This AD becomes effective February 12, 2008.

The Director of the Federal Register approved the incorporation by reference of Eurocopter Emergency Alert Service Bulletin No. 67.00.29, Revision 1, dated April 27, 2007, as of February 12, 2008.

We must receive comments on this AD by March 28, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov, or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Ed Cuevas, Aviation Safety Engineer, FAA, Rotorcraft Directorate, Safety Management Group, Fort Worth, Texas 76193-0111, telephone (817) 222-5355, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the Technical Agent for the Member States of the European Community, has issued EASA Airworthiness Directive 2007-0131-E, dated May 11, 2007 (referred to after this as “the MCAI”), to correct an unsafe condition for these French-certificated helicopters. The MCAI states:

This emergency Airworthiness Directive (AD) is issued following a report of yaw control restricted travel in operation following the replacement of the load compensator. If not corrected, this condition could lead to the loss of control of the helicopter. Investigation revealed that the load compensator lever was incorrectly referenced in the Illustrated Parts Catalog (IPC). Levers on helicopters Post-MOD 072065 (replacement of the load compensator hydraulic actuator) should be Part Number (P/N) 355A27-0082-00 and levers on helicopters Pre-MOD 072065 should be P/N 355A27-0072-00. This AD mandates inspection to identify the load compensator lever and the hydraulic actuator assembly installed on helicopters, to verify their compatibility and replacement of improper P/Ns when an incompatibility is found.

The installation of an incompatible load compensator lever in a Pre-Mod 072065 helicopter may cause control travel restrictions while the installation of an incompatible load compensator lever in a Post-Mod 072065 helicopter may cause increased control loads in the yaw control pedals. You may obtain further information by examining the MCAI and service information in the AD docket.

Relevant Service Information

Eurocopter has issued Emergency Alert Service Bulletin (ASB) No. 67.00.29, Revision 1, dated April 27, 2007. The actions described in the MCAI are intended to correct the same unsafe condition as that identified in the service information.

FAA's Determination and Requirements of This AD

This product has been approved by the aviation authority of France, and is approved for operation in the United States. Pursuant to our bilateral agreement with this State of Design Authority, we have been notified of the unsafe condition described in the MCAI and service information. We are issuing this AD because we evaluated all pertinent information and determined the unsafe condition exists and is likely to exist or develop on other products of the same type design.

Differences Between the AD and the MCAI or Service Information

We have reviewed the MCAI and related service information and, in general, agree with their substance. However, the requirements of this AD must be accomplished within 10 hours TIS after the effective date of this AD. The MCAI requires accomplishment before next flight. Additionally, this AD requires that components with bore diameters outside the tolerances specified in the ASB be replaced with airworthy components with bore diameters within the specified tolerances instead of contacting the manufacturer for a “suitable repair solution.”

These differences are highlighted in the “Differences Between the FAA AD and the MCAI” section in the AD.

FAA's Determination of the Effective Date

An unsafe condition exists that requires the immediate adoption of this AD. The FAA has found that the risk to the flying public justifies waiving notice and comment prior to adoption of this rule because installation of an incompatible load compensator lever may result in restricted yaw control travel or increased control loads in the yaw control pedals and the incompatibility must be corrected within 10 hours TIS. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0043; Directorate Identifier 2007-SW-31-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect about 36 products of U.S. registry. We also estimate that it will take about .25 work-hour to inspect the helicopter and 10 work-hours to replace a load compensator lever, if needed. The average labor rate is $80 per work-hour. Required parts will cost about $1,161 for a load compensator lever, P/N 355A27-0072-00, or $862 for a load compensator lever, P/N 355A27-0082-00. Based on these figures, we estimate the cost of this AD on U.S. operators to be $720 to inspect, or $20 per product, assuming no load compensation levers are replaced.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-02-10 Eurocopter France: Amendment 39-15340. Docket No. FAA-2008-0043; Directorate Identifier 2007-SW-31-AD.

Effective Date

(a) This airworthiness directive (AD) becomes effective February 12, 2008.

Other Affected ADs

(b) None.

Applicability

(c) This AD applies to Eurocopter Model AS 355 F2 and AS 355 N helicopters, all serial numbers, certificated in any category.

Reason

(d) The mandatory continued airworthiness information (MCAI) states:

This emergency Airworthiness Directive (AD) is issued following a report of yaw control restricted travel in operation following the replacement of the load compensator. If not corrected, this condition could lead to the loss of control of the helicopter.

Investigation revealed that the load compensator lever was incorrectly referenced in the Illustrated Parts Catalog (IPC). Levers on helicopters Post-MOD 072065 (replacement of the load compensator hydraulic actuator) should be Part Number (P/N) 355A27-0082-00 and levers on helicopters Pre-MOD 072065 should be P/N 355A27-0072-00. This AD mandates inspection to identify the load compensator lever and the hydraulic actuator assembly installed on helicopters, to verify their compatibility and replacement of improper P/Ns when an incompatibility is found.

Actions and Compliance

(e) Unless already done, do the following:

(1) Within the next 10 hours time-in-service (TIS), determine the part number (P/N) and the compatibility of the load compensator lever (compensator level) and the hydraulic actuator assembly (hydraulic actuator) in accordance with the Accomplishment Instructions, paragraphs 2.B.1. through 2.B.2.c. of Eurocopter AS 355 Emergency Alert Service Bulletin No. 67.00.29, Revision 1, April 27, 2007 (ASB).

Note: Instead of inspecting the rotorcraft, a review of the helicopter maintenance records along with any other applicable data (rotorcraft logbook, components list, etc.) is acceptable if each P/N can be positively determined from that review.

(2) For helicopters, Pre-Mod 072065, with an incompatible hydraulic actuator, P/N 355A75-1370-01 or P/N 355A75-1370-03, and compensator lever, P/N 355A27-0082-00:

(i) If the helicopter has NOT been operated with compensator lever, P/N 355A27-0082-00, installed, replace the compensator lever before further flight with an airworthy compensator lever, P/N 355A27-0072-00.

(ii) If the helicopter has been operated with compensator lever, P/N 355A27-0082-00, installed, within the next 10 hours time-in-service (TIS):

(A) Remove the load compensator assembly and the compensator lever, measure the diameters of the bores, inspect the swivel bearings, replace the specified hydraulic actuator components and the incompatible compensator lever and install the load compensator assembly in accordance with the applicable steps in the Accomplishment Instructions, paragraph 2.B.3.b. of the ASB.

(B) If the diameter of a bore is greater than the tolerances specified in the applicable steps in the Accomplishment Instructions, paragraph 2.B.3.b., of the ASB, replace each part that contains an out-of-tolerance bore diameter with an airworthy part that contains a bore diameter that is within the specified tolerances.

(3) For helicopters, Post-MOD 072065, with an incompatible hydraulic actuator, P/N 355A75-1370-02 or P/N 355A75-1370-04, and compensator lever, P/N 355A27-0072-00:

(i) If the helicopter has NOT been operated with compensator lever, P/N 355A27-0072-00, installed, replace the compensator lever before further flight with an airworthy compensator lever, P/N 355A27-0082-00.

(ii) If the helicopter has been operated with compensator lever, P/N 355A27-0072-00, installed, within the next 10 hours TIS, replace the compensator lever with an airworthy compensator lever, P/N 355A27-0082-00, and inspect the bolts in accordance with the applicable steps in the Accomplishment Instructions, paragraph 2.B.3.b.of the ASB.

(f) No person shall install a:

(1) Load compensator lever, P/N 355A27-0082-00, on any Model AS 355 N or AS 355 F2 helicopter Pre-MOD 072065, with hydraulic actuator assembly, P/N 355A75-1370-01 or P/N 355A75-1370-03; or a

(2) Load compensator lever, P/N 355A27-0072-00, on any Model AS 355 N or AS 355 F2 helicopter Post-MOD 072065, with hydraulic actuator assembly, P/N 355A75-1370-02 or P/N 355A75-1370-04.

Differences Between the FAA AD and the MCAI

(g) The requirements of this AD must be accomplished within 10 hours TIS after the effective date of this AD. The MCAI requires accomplishment before next flight. Additionally, this AD requires that components with bore diameters outside the tolerances specified in the ASB be replaced with airworthy components with bore diameters within the specified tolerances instead of contacting the manufacturer for a “suitable repair solution.”

Subject

(h) Air Transport Association of America (ATA) Code 6730, Rotorcraft Servo System.

Other Information

(i) The following provisions also apply to this AD:

(1) Alternative Methods of Compliance (AMOCs): The Manager, Safety Management Group, FAA, has the authority to approve AMOCs for this AD, if requested using the procedures found in 14 CFR 39.19. Send information to ATTN: Ed Cuevas, Aviation Safety Engineer, FAA, Rotorcraft Directorate, Safety Management Group, Fort Worth, Texas 76193-0111, telephone (817) 222-5355, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(j) MCAI European Aviation Safety Agency (EASA) Emergency Airworthiness Directive No. 2007-0131-E, dated May 11, 2007, contains related information.

Material Incorporated by Reference

(k) The Director of the Federal Register approved the incorporation by reference of Eurocopter Emergency Alert Service Bulletin No. 67.00.29, Revision 1, dated April 27, 2007, under 5 U.S.C. 552(a) and 1 CFR part 51.

(l) For the Eurocopter service information identified in this AD, contact American Eurocopter Corporation, 2701 Forum Drive, Grand Prairie, Texas 75053-4005, telephone (972) 641-3460, fax (972) 641-3527.

(m) You may review copies of Eurocopter Emergency Alert Service Bulletin No. 67.00.29, Revision 1, dated April 27, 2007, at the FAA, Office of the Regional Counsel, Southwest Region, 2601 Meacham Blvd., Room 663, Fort Worth, Texas or at the National Archives and Records Administration (NARA). For information on the availability of this material at NARA, call (202) 741-6030, or go to: http://www.archives.gov/federal-register/cfr/ibr-locations.html.

Issued in Fort Worth, Texas, on December 28, 2007.
Mark R. Schilling,
Acting Manager, Rotorcraft Directorate, Aircraft Certification Service.

[FR Doc. E8-1019 Filed 1-25-08; 8:45 am]

BILLING CODE 4910-13-P